SECURITIES AND EXCHANGE COMMISSION

[ File No. 500-1 ]

Order of Suspension of Trading; In the Matter of Liberty Silver Corp.

October 5, 2012.

It appears to the Securities and Exchange Commission that there is a lack of current and accurate information concerning the securities of Liberty Silver Corp. (“Liberty Silver”) because of questions concerning publicly available information about Liberty Silver, the control of its stock, its market price, and trading in the stock. Liberty Silver is a Nevada corporation based in Toronto, Ontario, Canada; it is quoted on the OTCBB under the symbol LBSV.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on October 5, 2012 through 11:59 p.m. EDT, on October 18, 2012.

By the Commission.
Kevin M. O'Neill,
Deputy Secretary.

[FR Doc. 2012-24971 Filed 10-5-12; 11:15 am]

BILLING CODE 8011-01-P